FEDERAL COMMUNICATIONS COMMISSION

Public Information Collections Approved by Office of Management and Budget

September 8, 2006.

SUMMARY: The Federal Communications Commission (FCC) has received Office of Management and Budget (OMB) approval for the following public information collections pursuant to the Paperwork Reduction Act of 1995, Public Law 104-13. An agency may not conduct or sponsor and a person is not required to respond to a collection of information unless it displays a currently valid control number.

DATES: Emergency revision of a currently approved collection effective on September 8, 2006.

FOR FURTHER INFORMATION CONTACT: Nicole R. On'gele, Federal Communications Commission, 445 12th Street, SW., Washington, DC 20554, (202) 418-2991 or via the Internet at nicole.ongele@fcc.gov.

SUPPLEMENTARY INFORMATION:

OMB Control No.: 3060-0798.

OMB Approval Date: September 8, 2006.

Expiration Date: 2/28/07.

Title: FCC Application for Wireless Telecommunications Bureau Radio Service Authorization.

Form No.: FCC Form 601.

Estimated Annual Burdens: 250,920 responses; 219,505 hours, and $50,144,000.

Needs and Uses: The Commission has received emergency OMB approval to implement a modified information collection in connection with FCC Form 601 (OMB Control No. 3060-0798), pursuant to a Commission order that became effective on June 5, 2006. The information collection associated with the FCC Form 601, specifically Schedule B, is being modified in order to ensure that the Commission will receive from winning bidders claiming special designated entity benefits all information necessary to permit the Commission to review the qualifications of that winning bidder to receive such benefits. While the FCC Form 601, Schedule B, already requires the submission of most of the information that the Commission requires to conduct this review, the modified information collection will ensure that the Commission receives additional information as mandated by a recent Commission order revising the rules applicable to entities seeking designated entity benefits. Until the electronic version of the form (specifically, the Schedule B) can be updated in the Commission's Universal Licensing System (ULS), applicants will be requested to provide this same information in an attachment to the existing version of Form 601, filed electronically. The Commission uses the information provided by applicants on FCC Form 601 to update its database and to determine if the applicant is legally, technically and financially qualified to provide licensed services and to make proper use of the frequency spectrum. The information collected pursuant to this modified information collection will be used to ensure that only legitimate designated entities, as defined by the Commission's rules, reap the benefits of the Commission's designated entity program.

Federal Communications Commission.
Marlene H. Dortch,
Secretary.

[FR Doc. 06-7901 Filed 9-20-06; 8:45 am]

BILLING CODE 6712-01-P